DEPARTMENT OF AGRICULTURE

Forest Service

Umpqua and Diamond Lake Districts, Umpqua National Forest, Oregon, Calf Copeland Restoration Project

AGENCY: Forest Service, USDA.

ACTION: Notice of intent to prepare an Environmental Impact Statement.

SUMMARY: Calf and Copeland Creek are major tributaries to the North Umpqua River and lie in the very center of the Umpqua National Forest. The 51,650 acre planning area is within a mixed-severity fire regime landscape in which the steep slopes and canyons historically tended to burn hot while the benches and ridges tended towards high-frequency, low-severity fire. As a consequence, the benches and ridges developed open stands of mixed-age Douglas-fir, sugar pine, ponderosa pine and incense-cedar. Fire suppression and past timber harvest have converted these areas to overstocked stands of predominately young Douglas-fir and white fir that are rapidly choking out the pine and leaving the entire landscape at risk to uncharacteristic wildfire. The Umpqua National Forest has witnessed a sharp increase in wildfire over the last couple of decades. During this period, tens of thousands of acres have burned within the planning area and the immediately adjacent watersheds, about 20,000 acres of which were stand replacement fire within habitat for the northern spotted owl.

This project proposes a combination of timber harvest, non-commercial thinning, and prescribed fire to reduce stem densities and improve the fuel profiles in plantations as well as in older stands with sugar or ponderosa pine. The project also proposes to create strategically placed shaded fuel breaks along roads to help manage wildfire to reduce the risk of stand replacement fire in the remaining late-successional and old-growth stands. Finally, the project would provide log placement in lower Calf Creek to improve stream conditions, restore two wetlands and possibly decommission or close roads to improve watershed conditions.

DATES: Comments concerning the scope of the analysis must be received by August 31, 2017. The Draft Environmental Impact Statement is expected December, 2018 and the Final Environmental Impact Statement is expected July, 2019.

ADDRESSES: Send written comments to 2900 NW Stewart Parkway, Oregon 97471. Comments may also be sent via email to comments-pacificnorthwest-umpqua-northumpqua@fs.fed.us, or via facsimile to 970-957-3283.

FOR FURTHER INFORMATION CONTACT: Richard Helliwell at 541-957-3337, rhelliwell@fs.fed.us or Amy Nathanson at 541-957-3338, anathanson02@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to provide greater landscape resiliency to wildfire and other disturbances. Integral to maintaining landscape resiliency is maintenance of legacy ponderosa and sugar pine and recruitment of new pine to begin replacing the trees that have been lost to competition in the wake of decades of fire suppression. Also essential to restoring fire resiliency is the need to restore the historic species composition and structure where it has been altered due to past timber management. In order to truly improve landscape resiliency it would be necessary to group management actions, as much as practical, into ecologically significant units that would allow fire to function more similarly to how it did historically. There is a need to manage for old-growth and late-successional habitat for the northern spotted owl and other old forest species to compensate, in part, for the many thousands of acres that have been converted to early seral habitat due to recent stand-replacement fires in and adjacent to the planning area. Finally, there is a need to improve aquatic conditions that have been altered through roads and past timber harvest.

Proposed Action

Restoration of mixed-conifer stands with sugar pine or ponderosa pine would occur on 1,777 acres. Treatment would consist of removal of all conifers under 20-24 inches diameter breast height (DBH) within 20-25 feet of the dripline of all healthy pine over 20 inches DBH. Overall canopy cover in the stands would be reduced to 40-60% canopy closure. No trees over 20-24″ DBH would be removed.

Non-commercial thinning, girdling or burning would occur on 185 acres. Non-commercial thinning would be comprised of predominately conifers under 7″ DBH, although larger trees up to 24″ DBH may be cut and left within 20 feet of the dripline of large pines. In some cases trees up to 24″ DBH could also be girdled in the vicinity of large pines rather than felled. Fuels treatments may consist of pile and burning or broadcast burning or both.

Thinning would occur on 1,147 acres of previously managed stands. All of these stands had been clearcut between 1956 and 1975 and planted to predominately Douglas-fir. These stands would be thinned to 40-60% canopy closure and small gaps of 0.5 to 3 acres would be created and planted to rust-resistant sugar pine or ponderosa pine. A 50 foot no entry buffer would be left along all streams, allowing for thinning within the riparian reserve area outside of that 50 feet.

Shaded fuel breaks would be created along about 28 miles of road. The fuel break would remove conifers less than 7″ DBH and ladder fuels up to 150 feet on either side of the road. This would result in up to 1,033 acres of shaded fuel breaks although 216 of these acres overlaps with other proposed treatment stands.

Log placement would occur at eight locations along lower Calf Creek. The failing sump along Forest Service road 4750-200 would be restored to a series of three small wetlands. The small earthen dam would be removed and the new wetlands contoured in to take its place.

The wetland at Little Oak Flats that is currently being drained by Forest Service road 4770-030 would be restored to retain approximately its natural hydrologic state. About six miles of road would be decommissioned, including the last 1.7 miles of Forest Service road 2801 that follows Copeland Creek.

About 13 miles of road have been identified as not currently needed or expected to be needed within the next twenty years. These would be put into storage that would include pulling the culverts such that they would no longer be drivable. Of these, about 10 miles would be closed to all vehicle traffic while about three miles would still be accessible to motorized vehicles under 50″ in width.

Responsible Official

North Umpqua District Ranger.

Nature of Decision To Be Made

The deciding officer will decide whether to implement the proposed action, take an alternative action that meets the purpose and need or take no action.

Preliminary Issues

Preliminary issues include vegetation management in areas designated as Late Seral Reserves under the Northwest Forest Plan as well as vegetation management in designated critical habitat for the threatened northern spotted owl. Management of the road system is an issue that has been identified for this project area. Noncommercial vegetation management in inventoried roadless areas and areas that are currently undeveloped is also an issue for this project.

Scoping Process

This notice of intent initiates the scoping process, which guides the development of the environmental impact statement. Public meetings and field trips will be planned for the summer of 2017. These meetings will be announced in the Roseburg News Review and the Umpqua National Forest Web page.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: July 19, 2017.
Jeanne M. Higgins,
Acting Associate Deputy Chief, National Forest System.

[FR Doc. 2017-16129 Filed 7-31-17; 8:45 am]

BILLING CODE 3411-15-P